DEPARTMENT OF THE INTERIOR

Bureau of Land Management

[LLORB00000.L10200000. BS0000. LXSSH1060000.18X.HAG 18-0088]

Notice of Public Meetings for the Southeast Oregon Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM), Southeast Oregon Resource Advisory Council (RAC) will meet as indicated below:

DATES: The Southeast Oregon RAC will take a field tour on Tuesday, August 7, 2018, from 8:00 a.m. to 5 p.m. and meet on Wednesday, August 8, 2018, from 8:00 a.m. to 12:30 p.m. Pacific Standard Time. The public comment period on Wednesday, August 8, will be from 11:45 a.m. to 12:15 p.m.

ADDRESSES: Participants in the Tuesday, August 7, 2018, field tour will depart from the Lakeview Interagency Office, 1301 S G Street, Lakeview, Oregon 97630, at 8:00 a.m. The Wednesday, August 8, 2018, public meeting will be held at the Lakeview Interagency Office.

FOR FURTHER INFORMATION CONTACT: Larisa Bogardus, Public Affairs Officer, 1301 S G Street, Lakeview, Oregon 97630; 541-947-6237; lbogardus@blm.gov. Persons who use a telecommunications device for the deaf (TDD) may call the Federal Relay Service (FRS) at 1 (800) 877-8339 to contact the above individual during normal business hours. The FRS is available 24 hours a day, 7 days a week, to leave a message or question with the above individual. You will receive a reply during normal business hours.

SUPPLEMENTARY INFORMATION: The 15-member Southeast Oregon RAC was chartered and appointed by the Secretary of the Interior. Their diverse perspectives are represented in commodity, conservation, and general interests. They provide advice to the BLM, and as needed the Forest Service, resource managers regarding management plans and proposed resource actions on public land in southeast Oregon. All meetings are open to the public in their entirety. Information to be distributed to the RAC is requested prior to the start of each meeting.

The August 7 field trip will consist of a tour of lands with wilderness characteristics, and existing Wilderness Study Areas in preparation for the RAC to participate in the Lakeview Resource Management Plan Amendment process. Members of the public who want to participate in the field tour must provide their own transportation. Agenda items for the Wednesday, August 8, meeting include possible management approaches for areas identified by the BLM as lands with wilderness characteristics for a formal recommendation by the Southeast Oregon RAC as part of the Lakeview District's Resource Management Plan Amendment process, development of cross-boundary fuel breaks to protect against wildfire, potential agency changes to sage grouse management, and any other business that may reasonably come before the RAC. A final agenda will be posted online at https://www.blm.gov/get-involved/resource-advisory-council/near-you/oregon-washington/southeast-oregon-rac at least one week prior to the meeting.

Before including your address, phone number, email address, or other personal identifying information in your comments, please be aware that your entire comment—including your personal identifying information—may be made publicly available at any time. While you can ask us in your comment to withhold your personal identifying information from public review, we cannot guarantee we will be able to do so.

Authority: 43 CFR 1784.4-2

Holly Orr,
Acting Burns District Manager.

[FR Doc. 2018-15585 Filed 7-19-18; 8:45 am]

BILLING CODE 4310-33-P